INTERNATIONAL TRADE COMMISSION

[Investigation Nos. 332-350 and 332-351]

Monitoring of U.S. Imports of Tomatoes; Monitoring of U.S. Imports of Peppers

AGENCY: United States International Trade Commission.

ACTION: Notice of opportunity to submit information for 2006 monitoring reports.

DATES: Effective Date: July 12, 2006.

SUMMARY: Pursuant to statute (see below), the Commission monitors U.S. imports of fresh or chilled tomatoes and fresh or chilled peppers, other than chili peppers, for the purpose of expediting an investigation under certain U.S. safeguard laws, should an appropriate petition be filed. As part of that monitoring, the Commission compiles data on imports and the domestic industry, and has made its data series available electronically to the public on an annual basis since 1994. The Commission is in the process of preparing its data series for the period ending June 30, 2006, and is seeking input from interested members of the public. The Commission expects to make its data series available to the public in November 2006 in electronic format, posted on the Commission's Web site.

FOR FURTHER INFORMATION CONTACT: Timothy McCarty (202-205-3324, timothy.mccarty@usitc.gov) or Jonathan Coleman (202-205-3465, jonathan.coleman@usitc.gov), Agriculture and Fisheries Division, Office of Industries, U.S. International Trade Commission, 500 E Street, SW., Washington DC, 20436, for general information, or William Gearhart (202-205-3091, william.gearhart@usitc.gov), Office of the General Counsel, U.S. International Trade Commission, for information on legal aspects.

SUPPLEMENTARY INFORMATION: Background.—Section 316 of the North American Free-Trade Agreement Implementation Act (NAFTA Implementation Act) (19 U.S.C. 3881) requires that the Commission monitor U.S. imports of fresh or chilled tomatoes (HTS heading 0702.00) and fresh or chilled peppers, other than chili peppers (HTS subheading 0709.60.00), until January 1, 2009, for purposes of expediting an investigation concerning provisional relief under section 202 of the Trade Act of 1974 or section 302 of the NAFTA Implementation Act. Section 316 does not require that the Commission publish reports on this monitoring activity or otherwise make the information available to the public. However, the Commission maintains current data files on tomatoes and peppers in order to conduct an expedited investigation should a request be received. In response to the monitoring requirement, the Commission instituted investigation No. 332-350, Monitoring of U.S. Imports of Tomatoes (59 FR 1763) and investigation No. 332-351, Monitoring of U.S. Imports of Peppers (59 FR 1762).

The Commission will make its reports available to the public in electronic format, and will maintain electronic copies of its reports on its Web site until one year after the monitoring requirement expires on January 1, 2009. The most recent Commission monitoring reports in this series were published in November 2005 and are available on the Commission's Web site.

Written submissions.—The Commission does not plan to hold a public hearing in connection with preparation of these reports. However, interested persons are invited to submit written statements containing data and other information concerning the matters to be addressed in the reports. All submissions should be addressed to the Secretary, United States International Trade Commission, 500 E Street SW., Washington, DC 20436, and should be received no later than the close of business on August 31, 2006. All written submissions must conform with the provisions of section 201.8 of the Commission's Rules of Practice and Procedure (19 CFR 201.8). Section 201.8 of the rules requires that a signed original (or a copy designated as an original) and fourteen (14) copies of each document be filed. In the event that confidential treatment of the document is requested, at least four (4) additional copies must be filed, in which the confidential information must be deleted (see the following paragraph for further information regarding confidential business information). The Commission's rules do not authorize filing submissions with the Secretary by facsimile or electronic means, except to the extent permitted by section 201.8 of the rules (see Handbook for Electronic Filing Procedures, ftp://ftp.usitc.gov/pub/reports/electronic_filing_handbook.pdf ).

Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available in the Office of the Secretary to the Commission for inspection by interested parties.

The Commission will not publish such confidential business information in the monitoring reports it posts on its Web site in a manner that would reveal the operations of the firm supplying the information. However, the Commission may include such information in the report it sends to the President under section 202 of the Trade Act of 1974 or section 302 of the NAFTA Implementation Act, if it is required to conduct an investigation involving these products under either of these statutory authorities. Hearing-impaired individuals are advised that information on this matter can be obtained by contacting our TDD terminal on (202) 205-1810. General information concerning the Commission may also be obtained by accessing its Internet server (http://www.usitc.gov). The public record for these investigations may be viewed on the Commission's electronic docket (EDIS-ON LINE) at http://edis.usitc.gov. Persons with mobility impairments who will need special assistance in gaining access to the Commission should contact the Office of the Secretary at 202-205-2000.

By order of the Commission.
Issued: July 17, 2006.
Marilyn R. Abbott,
Secretary to the Commission.

[FR Doc. E6-11565 Filed 7-20-06; 8:45 am]

BILLING CODE 7020-02-P